Title 3—

The President

Proclamation 9653 of October 6, 2017

Fire Prevention Week, 2017

By the President of the United States of America

A Proclamation

During Fire Prevention Week, we recognize the dangers posed by fires and emphasize the importance of fire prevention and preparation. We also honor our Nation's brave firefighters who have lost their lives in the line of duty and their families, and those firefighters who continue to put their lives on the line each day.

Each year, an average 1.4 million fires burn in the United States. In 2015, fires caused approximately 3,360 deaths and 15,700 injuries. This year, the American West has especially suffered, as wildfires have raged from California to Oregon and Montana. These fires have already consumed more than 8 million acres and destroyed more than 650 homes and other structures. All of this destruction can be sparked by a single careless act. We must remain vigilant whenever we are around fire. By taking the appropriate precautions, we can prevent fires, save lives, and protect property and the environment. In particular, we should always mind dishes on the stovetop, carefully contain and completely extinguish campfires, take care to handle fireworks away from flammable materials, and ensure that cigarettes are handled appropriately and discarded after use.

When a fire breaks out, every second counts. A working smoke alarm can buy the few extra moments necessary to save a life. A well-conceived and regularly practiced plan can help ensure a safe and orderly fire escape for families. All Americans should create a fire escape plan and practice it yearly with their families. We must make sure to teach our children how to escape on their own and make special plans for family members with limited mobility. The National Fire Protection Association's Every Second Counts: Plan Two Ways Out campaign can help your family prepare for home fires.

As we observe Fire Prevention Week, we pray for the Federal, State, local, and tribal responders battling the wildfires in the West and around the country and for all those who have lost their homes to fires. We recommit ourselves to preventing fire-related disasters by, among other things, staying current with the latest fire-prevention techniques and raising awareness about fire-safety practices.

NOW, THEREFORE, I, DONALD J. TRUMP, President of the United States of America, by virtue of the authority vested in me by the Constitution and the laws of the United States, do hereby proclaim October 8 through October 14, 2017, as Fire Prevention Week. On Sunday, October 8, 2017, in accordance with Public Law 107-51, the flag of the United States will be flown at half-staff at all Federal office buildings in honor of the National Fallen Firefighters Memorial Service. I call on all Americans to participate in this observance with appropriate programs and activities and by renewing their efforts to prevent fires and their tragic consequences.

IN WITNESS WHEREOF, I have hereunto set my hand this sixth day of October, in the year of our Lord two thousand seventeen, and of the Independence of the United States of America the two hundred and forty-second.

[FR Doc. 2017-22417

Filed 10-12-17; 11:15 am]

Billing code 3295-F8-P